DEPARTMENT OF STATE

[Public Notice 10305]

Meeting on United States-Oman Free Trade Agreement Environment Chapter Implementation, Joint Forum on Environmental Cooperation, and Public Session

AGENCY: Department of State.

ACTION: Announcement of meetings; solicitation of suggestions; invitation to public session.

SUMMARY: The Department of State and the Office of the United States Trade Representative (USTR) are providing notice that the governments of the United States and Oman intend to hold a meeting to review implementation of the Environment Chapter of the United States-Oman Free Trade Agreement (FTA), the United States-Oman Joint Forum on Environmental Cooperation (Joint Forum), and a public session in Muscat, Oman, on March 4 and 5, 2018, at a venue to be announced.

DATES: The public session will be held on March 5, 2018, in Muscat, Oman at a venue to be announced. Suggestions on the Joint Forum meeting agenda and/or the 2018-2021 Plan of Action should be provided no later than March 1, 2018, to facilitate consideration.

ADDRESSES: Those interested in attending the public session should email Tiffany Prather at PratherTA@state.gov to find out the time and place of the session. Suggestions on the Joint Forum meeting agenda and/or the 2018-2021 Plan of Action should be emailed to PratherTA@state.gov or faxed to Tiffany Prather at (202) 647-5947, with the subject line “United States-Oman Environmental Cooperation.”

FOR FURTHER INFORMATION CONTACT: Tiffany Prather, (202) 647-4548.

SUPPLEMENTARY INFORMATION: The governments of the United States and Oman (the governments) created the Joint Forum pursuant to the United States-Oman Memorandum of Understanding on Environmental Cooperation (MOU), signed on February 20, 2006. During the Joint Forum, the governments will discuss how the United States and Oman can work together to protect and conserve the environment, highlight past bilateral environmental cooperation, review activities under the 2014-2017 Plan of Action, and commit to a 2018-2021 Plan of Action. The Department of State and USTR invite the members of the public to submit written suggestions on items to include on the meeting agenda or in the 2018-2021 Plan of Action.

The Department of State and USTR also invite interested persons to attend a public session where the public will have the opportunity to ask about implementation of both the MOU and the Environment Chapter of the United States-Oman FTA. In the Environment Chapter of the United States-Oman FTA, the governments “recognize the importance of strengthening capacity to protect the environment and to promote sustainable development in concert with strengthening bilateral trade and investment relations” and committed to undertaking cooperative environmental activities pursuant to the MOU. In Section 2 of the MOU, the governments established the Joint Forum to coordinate and review environmental cooperation activities. As envisioned in the MOU, the Joint Forum develops Plans of Action; reviews and assesses cooperative environmental activities undertaken pursuant to the Plan of Action; recommends ways to improve cooperation; and undertakes such other activities as the Governments may deem to be appropriate. Through this notice, the United States is soliciting the views of the public with respect to the 2018-2021 Plan of Action.

Members of the public, including NGOs, educational institutions, private sector enterprises, and all other interested persons, are invited to submit written suggestions regarding items for inclusion in the meeting agendas or in the new Plan of Action. Please include your full name and identify any organization or group you represent. We encourage submitters to refer to:

• United States-Oman Memorandum of Understanding on Environmental Cooperation;

• 2011-2014 Plan of Action Pursuant to the United States-Oman Memorandum of Understanding on Environmental Cooperation;

• 2014-2017 Plan of Action Pursuant to the United States-Oman Memorandum of Understanding on Environmental Cooperation;

• Chapter 17 of the United States-Oman Free Trade Agreement;

• Final Environmental Review of the United States-Oman Free Trade Agreement.

These documents are available at: http://www.state.gov/e/oes/eqt/trade/oman/index.htm.

Rob Wing,
Acting Director, Office of Environmental Quality and Transboundary Issues, Department of State.

[FR Doc. 2018-02420 Filed 2-6-18; 8:45 am]

BILLING CODE 4710-09-P